COMMISSION ON CIVIL RIGHTS

Notice of Public Meeting of the Maryland Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Maryland Advisory Committee to the Commission will be convene at Ascend One Government Building, BelAir Room, 8930 Stanford Blvd., Columbia, MD 21045, at 12:00 p.m. EDT on Tuesday, April 7, 2020. The purpose of the meeting is for the Advisory Committee to have an orientation and begin planning its first civil rights project for its new appointment term.

DATES: Tuesday, April 7, 2020, at 12:00 p.m. EDT.

ADDRESSES: Ascend One Government Building, BelAir Room, 8930 Stanford Blvd., Columbia, MD 21045

FOR FURTHER INFORMATION CONTACT: Evelyn Bohor at ero@usccr.gov or by phone at 202-376-7533.

SUPPLEMENTARY INFORMATION: The purpose of the meeting is for project planning. The public is invited to the meeting and encouraged to address the committee following the meeting.

If other persons who plan to attend the meeting require other accommodations, please contact Evelyn Bohor at ebohor@usccr.gov at the Eastern Regional Office at least ten (10) working days before the scheduled date of the meeting.

Persons interested in the issue are also invited to submit written comments; the comments must be received in the regional office by Thursday, May 7, 2020. Written comments may be mailed to the Eastern Regional Office, U.S. Commission on Civil Rights, 1331 Pennsylvania Avenue, Suite 1150, Washington, DC 20425, faxed to (202) 376-7548, or emailed to Evelyn Bohor at ebohor@usccr.gov. Persons who desire additional information may contact the Eastern Regional Office at (202) 376-7533.

Records and documents discussed during the meeting will be available for public viewing as they become available at https://www.facadatabase.gov/FACA/FACAPublicViewCommitteeDetails?id=a10t0000001gzloAAA, and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda Tuesday, April 7, 2020 at 12:00 p.m. EDT

• Welcome and Introductions

• Orientation for New Committee

• Project Planning for its First Civil Rights Project

• Open Comment

• Adjournment

Dated: March 5, 2020.
David Mussatt,
Supervisory Chief, Regional Programs Unit.

[FR Doc. 2020-04923 Filed 3-10-20; 8:45 am]

BILLING CODE P